DEPARTMENT OF AGRICULTURE

Animal and Plant Health Inspection Service

[Docket No. APHIS-2014-0029]

Notice of Decision To Allow Interstate Movement of Fresh Achachairú Fruit From Puerto Rico

AGENCY: Animal and Plant Health Inspection Service, USDA.

ACTION: Notice.

SUMMARY: We are advising the public of our decision to begin allowing the interstate movement into the continental United States of fresh achachairú fruit from Puerto Rico. Based on the analysis, which we made available to the public for review and comment through a previous notice, we believe that the application of one or more designated phytosanitary measures will be sufficient to mitigate the risks of introducing or disseminating plant pests or noxious weeds via the interstate movement of achachairú from Puerto Rico.

DATES: Effective Date: October 1, 2014.

FOR FURTHER INFORMATION CONTACT: Mr. David Lamb, Senior Regulatory Policy Specialist, Regulatory Coordination and Compliance, PPQ, APHIS, 4700 River Road Unit 133, Riverdale, MD 20737-1231; (301) 851-2103.

SUPPLEMENTARY INFORMATION: Under the regulations in “Subpart—Regulated Articles From Hawaii and the Territories” (7 CFR 318.13-1 through 318.13-26, referred to below as the regulations), the Animal and Plant Health Inspection Service (APHIS) of the U.S. Department of Agriculture (USDA) prohibits or restricts the interstate movement of fruits and vegetables into the United States from Hawaii, Puerto Rico, the U.S. Virgin Islands, Guam, and the Commonwealth of the Northern Mariana Islands to prevent plant pests and noxious weeds from being introduced into and spread within the continental United States. (The continental United States is defined in § 318.13-2 of the regulations as the 48 contiguous States, Alaska, and the District of Columbia.)

Section 318.13-4 contains a performance-based process for approving the interstate movement of commodities that, based on the findings of a pest risk analysis, can be safely moved subject to one or more of the designated phytosanitary measures listed in paragraph (b) of that section. Under that process, APHIS publishes a notice in the Federal Register announcing the availability of the pest risk analysis that evaluates the risks associated with the interstate movement of a particular fruit or vegetable. Following the close of the 60-day comment period, APHIS may begin allowing the interstate movement of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on June 12, 2014 (79 FR 33715-33716, Docket No. APHIS-2014-0029), in which we announced the availability, for review and comment, of a pest risk analysis that evaluates the risks associated with the interstate movement of fresh achachairú fruit from Puerto Rico into the continental United States. We solicited comments on the notice for 60 days ending on August 11, 2014. We received three comments by that date. The comments were from private citizens and an organization of State plant pest regulatory agencies. All the commenters were generally supportive of the proposed action.

¹ To view the notice, PRA, RMD, and comments we received, go to http://www.regulations.gov/#!docketDetail;D=APHIS-2014-0029.

One commenter asked that we also list the scientific name for achachairú. The commenter stated that the scientific name is Garcinia humilis (Vahl) C.D. Adams, Clusiaceae. Another commenter stated that the original name for the species was Rheedia laterifolia. This commenter disagreed with identifying achachairú as G. humilis.

APHIS notes that the scientific name Garcinia gardneriana is used in the pest risk assessment. We also note that Rheedia laterifolia is widely considered to be a synonym for Garcinia humilis. The original request for market access came from a grower who presented the fruit as Garcinia laterifolia. However, when we began to consider the grower's request, we found that the Germplasm Resources Information Network maintained by the USDA's Agricultural Research Service (ARS) did not support G. laterifolia as a valid scientific name. The grower did not agree with changes to the scientific name and requested that APHIS seek another taxonomist or other authority who could use the Internet, scientific papers, and other resources, and would present a scientific report justifying a change to the scientific name. APHIS, with the help of ARS, identified a taxonomist with the New York Botanical Garden who was willing to make a determination of the scientific name. Sterile leaf and fruiting specimens were obtained from the grower's farm in Puerto Rico and sent to the taxonomist for identification. The taxonomist was then able to confirm that the specimen was in fact Garcinia gardneriana.

Therefore, in accordance with the regulations in § 318.13-4, we are announcing our decision to begin allowing the interstate movement of fresh achachairú fruit from Puerto Rico into the continental United States subject to the following phytosanitary measures:

• Fresh achachairú fruit must be transported interstate as commercial consignments only.

• Each consignment of fresh achachairú fruit must be inspected in pre-departure clearance for pests by APHIS-Plant Protection and Quarantine prior to shipment from Puerto Rico to the continental United States.

These conditions will be listed in the Puerto Rico Manual, found on the Internet at http://www.aphis.usda.gov/import_export/plants/manuals/ports/downloads/puerto_rico.pdf. In addition to those specific measures, fresh achachairú fruit from Puerto Rico will be subject to the general requirements listed in § 318.13-3 that are applicable to the interstate movement of all fruits and vegetables from Puerto Rico.

Authority: 7 U.S.C. 7701-7772 and 7781-7786; 7 CFR 2.22, 2.80, and 371.3.

Done in Washington, DC, this 26th day of September 2014.
Kevin Shea,
Administrator, Animal and Plant Health Inspection Service.

[FR Doc. 2014-23419 Filed 9-30-14; 8:45 am]

BILLING CODE 3410-34-P